DEPARTMENT OF DEFENSE

Department of the Army, Corps of Engineers

Notice of Intent To Prepare a Joint Environmental Impact Statement/Environmental Impact Report for the San Francisco Bay to Stockton (John F. Baldwin and Stockton Ship Channels) Navigation Improvement Study, San Francisco Bay, CA

AGENCY: Department of the Army, U.S. Army Corps of Engineers, DoD.

ACTION: Notice of Intent.

SUMMARY: In accordance with the National Environmental Policy Act (NEPA), the U.S. Army Corps of Engineers (USACE) San Francisco District, the Port of Stockton, and the Contra Costa County Water Agency are preparing an Environmental Impact Statement/Environmental Impact Report (EIS/EIR) to evaluate the efficiency of the movement of goods along the existing deep-draft navigation route extending from the San Francisco Bay to the Port of Stockton. This Notice of Intent (NOI) represents a supplemental notice to the March 12, 2008, NOI released for the San Francisco Bay to Stockton Navigation Improvement Study. This supplemental NOI also provides an update to the description of the study and discusses current phasing of the project. Because of the amount of time that has passed since 2008, this supplemental NOI is being released to notify the public that work will begin on an EIS/EIR, which is anticipated to be issued for public review in 2016. This NOI also re-opens the public scoping period.

The 2008 NOI discussed the project as a single navigation improvement study/project, proposing to deepen the John F. Baldwin channel from the West Richmond Channel to New York Slough Channel to a maximum depth of −45 feet mean lower low water (MLLW) and the Stockton Deep Water Ship Channel to a maximum depth of −40 feet MLLW.

The forthcoming EIS/EIR proposes to reevaluate the unconstructed portions of the original project described in the 1965 Chief of Engineers Report (House Document 89-208) and authorized by the Rivers and Harbors Act of 1965 (Public Law 89-298), which will be referred to in the EIS/EIR as Phase I (or the proposed project). Additional study authority exists for the entire channel from San Francisco Bay to Stockton, provided by the 2014 United States Senate Committee on Environment and Public Works Committee Resolution and specifying “navigation, ecosystem restoration, flood risk reduction, and other water related resource purposes.” This additional study authority will be discussed programmatically in the EIS/EIR.

The study area for the overall project consists of two reaches: The Western Reach and Eastern Reach. The Western Reach extends from Central San Francisco Bay to Avon and includes the West Richmond Channel, Pinole Shoal Channel, and Bulls Head Reach portion of the Suisun Bay Channel. The Eastern Reach extends from Avon to the Port of Stockton and includes the remaining portions of the Suisun Bay Channel (east of Avon), New York Slough Channel, and the Stockton Deep Water Ship Channel. The Western Reach is authorized to a depth of −45 feet mean lower low water (MLLW), but is currently maintained to −35 feet MLLW. Additional deepening of the Eastern Reach requires separate Congressional authorization for construction.

The forthcoming EIS/EIR for which this NOI is prepared proposes to separate the overall project into two separate phases (Phase I and Phase II) under a navigation improvement programmatic analysis. Under the programmatic analysis, two reaches and two phases are identified.

Phase I of the study is a single purpose navigation improvement project to evaluate incremental deepening to a maximum depth of −40 feet MLLW in the Western Reach. Phase II is a subsequent multipurpose navigation and ecosystem restoration study that would evaluate deepening the Eastern Reach to a maximum depth of −40 feet MLLW. Phase II will also revisit if further deepening of Western Reach up to its authorized depth of −45 feet MLLW is warranted. The Eastern Reach is maintained at its authorized depth of −35 feet MLLW, and any additional deepening in this reach will require a new project authorization through a subsequent Water Resources Development Act (WRDA).

The EIS/EIR will include both a project-level feasibility analysis for implementation of Phase I and a programmatic-level analysis for Phase II. Analysis of Phase II will be conducted using only existing information (i.e., additional studies or data collection will not be conducted). Additional project-level feasibility analysis of Phase II will require execution of a separate Feasibility Cost Sharing Agreement with the local sponsor and pending receipt of federal study funds.

DATES: Submit comments concerning this notice on or before April 4, 2016. There will be no additional public meeting in conjunction with this scoping period.

ADDRESSES: Mail written comments concerning this notice to: U.S. Army Corps of Engineers, San Francisco District, Planning Branch, ATTN: Cynthia J. Fowler, 1455 Market Street, San Francisco, CA 94103-1398. Comment letters should include the commenter's physical mailing address, the project title, and the USACE file number in the subject line.

FOR FURTHER INFORMATION CONTACT: Cynthia J. Fowler, U.S. Army Corps of Engineers, San Francisco District, Planning Branch, 1455 Market Street, San Francisco CA 94103-1398, (415) 503-6870, cynthia.j.fowler@usace.army.mil.

SUPPLEMENTARY INFORMATION: As previously mentioned, the USACE intends to prepare an EIS to reevaluate incremental deepening of the Western Reach and programmatically assess a multipurpose project involving deepening and ecosystem restoration in both the Western and Eastern Reaches. The Port of Stockton is the lead agency and local sponsor in preparing the EIR. The USACE and the Port of Stockton have agreed to jointly prepare an EIS/EIR to optimize efficiency and avoid duplication. The EIS/EIR is intended to be sufficient in scope to address the federal, state, and local requirements and environmental issues concerning the proposed activities and permit approvals.

Project Area and Background Information: The San Francisco Bay to Stockton Navigation Improvement Project includes the John F. Baldwin and Stockton Ship Channels, which extend 75 nautical miles from the Pacific Ocean, just outside the Golden Gate, to the Port of Stockton. Modern vessels crossing the channels can require up to 55 feet of draft when fully laden. Given that these channels are maintained at −35 feet MLLW, most vessels must be “light-loaded” (i.e., less than fully loaded with cargo) to navigate the channels with sufficient under-keel clearance. Light-loading increases the cost of transportation and, in turn, the cost of the shipped products because more trips must be made to carry the same volume of cargo. Light-loading is also inefficient, requiring more ships to carry cargo than if ships could travel with full loads.

The study area includes the entire extent of the federal navigation channels occurring in the Western and Eastern reaches, which are defined as follows:

Western Reach. This area includes the West Richmond Channel, Pinole Shoal Channel, Carquinez Strait, and the Bulls Head Reach portion of the Suisun Bay Channel. Avon (just east of the Benicia-Martinez Bridge) separates the Western Reach from the Eastern Reach. Western Reach is currently maintained at −35 feet MLLW, although the channels have an authorized depth of −45 feet MLLW.

Eastern Reach. This area includes the remaining portions of the Suisun Bay Channel (i.e., Suisun Bay Channel east of Avon and New York Slough) and all of the Stockton Deep Water Ship Channel (DWSC). The Eastern Reach is also maintained at a depth of −35 feet MLLW.

The Phase I project-level alternatives described below are anticipated to be analyzed in the Draft EIS/EIR. Phase II will be evaluated at a programmatic level because of uncertainties associated with its scope, size, and other details.

No Action, in which dredging to deepen the Western Reach would not occur and all construction-related activities would be avoided. Maintenance dredging would continue annually or on an as-needed basis and the federal standard placement sites would continue to be used.

Deepening to −37 feet MLLW, which would deepen the Western Reach to a depth of −37 feet MLLW with up to 2 feet of overdepth for a maximum depth of −39 feet MLLW. To account for rapid shoaling, an approximately 800-foot long sediment trap would be constructed at Bulls Head Reach by dredging up to an additional 6 feet (including 2 feet of overdepth) to −43 feet MLLW.

Deepening to −38 feet MLLW, which would deepen the Western Reach to a depth of −38 feet MLLW with up to 2 feet of overdepth for a maximum depth of −40 feet MLLW. Under this alternative, an approximately 800-foot long sediment trap at Bulls Head Reach would be constructed by dredging up to an additional 6 feet (including 2 feet of overdepth) to −44 feet MLLW.

Under both deepening alternatives, dredged material is expected to be placed at one or more permitted and economically feasible beneficial reuse sites.

Purpose and Need: The purpose of the Phase I study is to evaluate more efficient deep-draft navigation via incremental deepening of the Western Reach in a manner that minimizes adverse environmental effects. A potential subsequent Phase II multipurpose project involving deepening and ecosystem restoration in both the Western and Eastern Reaches will also be discussed programmatically. The purpose of Phase II is also to evaluate efficient deep-draft navigation and beneficial use opportunities using material generated from the deepening project. The need for the Phase I and Phase II studies is to address vessel restrictions imposed by the existing channel depths, which are inadequate to accommodate vessels with drafts exceeding −35 feet MLLW.

Issues: The detailed environmental analysis will consider the effect of maintaining or deepening the Western Reach on biological resources, sediments, air quality, greenhouse gas emissions, climate change, water quality, geology, sediments, hydraulics and hydrology, hazards, noise, utilities, navigation, environmental justice, transportation, land use, cultural and historic resources, aesthetics, recreation, and socioeconomic effects, as well as cumulative impacts and other specific potential environmental issues of concern. Where existing information is sufficiently available, the EIS/EIR will also consider the effects of both phases.

Scoping Process: The USACE is seeking participation of all interested federal, state, and local agencies, Native American groups, and other concerned private organizations or individuals through this public notice. The purpose of the public scoping period is to solicit comments regarding the potential impacts, environmental issues, and alternatives associated with the proposed action to be considered in the Draft EIS/EIR; identify other significant issues; provide other relevant information; and recommend mitigation measures. The public comment period is anticipated to run from March 4 to April 4, 2016.

The public will have an additional opportunity to comment once the Draft EIS/EIR is released, which is anticipated to be in the summer of 2016. The USACE will announce availability of the Draft EIS/EIR in the Federal Register and other media, and the USACE and Port of Stockton will provide a 45-day review period for the public, organizations, and agencies to review and comment on the Draft EIS/EIR. All interested parties should respond to this notice and provide a current address if they wish to be notified of the Draft EIS/EIR circulation.

John C. Morrow,
Lieutenant Colonel, U.S. Army, District Engineer.

[FR Doc. 2016-04758 Filed 3-3-16; 8:45 am]

BILLING CODE 3720-58-P